DEPARTMENT OF ENERGY

Federal Energy Regulatory Commission

Combined Notice of Filings #1

Take notice that the Commission received the following electric corporate filings:

Docket Numbers: EC16-136-000.

Applicants: Patua Acquisition Company, LLC, Patua Project, LLC.

Description: Amendment to June 29, 2016 Application For Prospective Authorization Under Section 203 of the Federal Power Act of Patua Acquisition Company, LLC, et al.

Filed Date: 7/15/16.

Accession Number: 20160715-5156.

Comments Due: 5 p.m. ET 7/25/16.

Docket Numbers: EC16-153-000.

Applicants: Antelope DSR 2, LLC.

Description: Application for Authorization Under Section 203 of the Federal Power Act for the Disposition of Jurisdictional Facilities, Request for Expedited Consideration and Confidential Treatment of Antelope DSR 2, LLC.

Filed Date: 7/20/16.

Accession Number: 20160720-5073.

Comments Due: 5 p.m. ET 8/10/16.

Docket Numbers: EC16-154-000.

Applicants: Western Antelope Dry Ranch LLC.

Description: Application for Authorization Under Section 203 of the Federal Power Act for the Disposition of Jurisdictional Facilities, Request for Expedited Consideration and Confidential Treatment of Western Antelope Dry Ranch LLC.

Filed Date: 7/20/16.

Accession Number: 20160720-5112.

Comments Due: 5 p.m. ET 8/10/16.

Take notice that the Commission received the following electric rate filings:

Docket Numbers: ER10-2265-011; ER12-21-020; ER11-2211-009; ER11-2209-009; ER11-2210-009; ER11-2207-009; ER11-2206-009; ER13-1150-007; ER13-1151-007; ER11-2855-020; ER14-1818-011; ER10-2260-007; ER10-2261-007; ER10-2338-013; ER10-2340-013; ER13-1991-008; ER13-1992-008; ER11-3727-015; ER10-2262-006; ER11-2062-020; ER11-2508-019; ER11-4307-020; ER12-1711-015; ER12-261-019; ER10-2264-007; ER10-1581-017; ER10-2354-009; ER11-2107-011; ER11-2108-011; ER10-2888-020; ER13-1803-011; ER13-1790-011; ER13-1746-012; ER12-1525-015; ER12-2019-013; ER10-2266-006; ER12-2398-014; ER11-3459-014; ER11-4308-020; ER11-2805-019; ER11-2856-020; ER13-2107-010; ER13-2020-010; ER13-2050-010; ER11-2857-020; ER10-2359-008; ER10-2381-008.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Avenal Park LLC, Boston Energy Trading and Marketing LLC, Cabrillo Power I LLC, Cabrillo Power II LLC, CP Power Sales Nineteen, L.L.C., CP Power Sales Twenty, L.L.C., Desert Sunlight 250, LLC, Desert Sunlight 300, LLC, El Segundo Energy Center LLC, El Segundo Power, LLC, Energy Plus Holdings LLC, GenOn Energy Management, LLC, Green Mountain Energy Company, High Plains Ranch II, LLC, Independence Energy Group LLC, Long Beach Generation LLC, Long Beach Peakers LLC, Midway-Sunset Cogeneration Company, North Community Turbines LLC, North Wind Turbines LLC, Norwalk Power LLC, NRG California South LP, NRG Delta LLC, NRG Marsh Landing LLC, NRG Solar Alpine LLC, NRG Solar Avra Valley LLC, NRG Solar Blythe LLC, NRG Solar Borrego I LLC, NRG Solar Roadrunner LLC, Reliant Energy Northeast LLC, RRI Energy Services, LLC, Sand Drag LLC, Solar Partners I, LLC, Solar Partners II, LLC, Solar Partners VIII, LLC, Sun City Project LLC, Sunrise Power Company, LLC, Walnut Creek Energy, LLC.

Description: Supplement to June 30, 2016 Updated Market Power Analysis of the Southwest Region of NRG Power Marketing LLC, et al.

Filed Date: 7/18/16.

Accession Number: 20160718-5172.

Comments Due: 5 p.m. ET 8/29/16.

Docket Numbers: ER14-2952-005.

Applicants: Midcontinent Independent System Operator, Inc.

Description: Report Filing: 2016-07-20_SSR Cost Allocation Refiling of Refund Report to be effective N/A.

Filed Date: 7/20/16.

Accession Number: 20160720-5080.

Comments Due: 5 p.m. ET 8/10/16.

Docket Numbers: ER16-994-002.

Applicants: Pacific Gas and Electric Company.

Description: Compliance filing: Compliance Filing to Revise Appendix A of the Western IA (SA 59) to be effective 4/1/2016.

Filed Date: 7/20/16.

Accession Number: 20160720-5072.

Comments Due: 5 p.m. ET 8/10/16.

Docket Numbers: ER16-2238-000.

Applicants: Consolidated Edison Company of New York, Inc., Orange and Rockland Utilities, Inc., New York Independent System Operator, Inc.

Description: § 205(d) Rate Filing: Con Edison and O&R Transco Agreements to be effective 5/27/2016.

Filed Date: 7/19/16.

Accession Number: 20160719-5106.

Comments Due: 5 p.m. ET 8/9/16.

Docket Numbers: ER16-2239-000.

Applicants: California Independent System Operator Corporation.

Description: § 205(d) Rate Filing: 2019-07-19 WAPA DTBAOA Agreement Amendment 1 to be effective 9/18/2016.

Filed Date: 7/19/16.

Accession Number: 20160719-5107.

Comments Due: 5 p.m. ET 8/9/16.

Docket Numbers: ER16-2240-000.

Applicants: Rush Springs Wind Energy, LLC.

Description: Baseline eTariff Filing: Rush Springs Wind Energy, LLC Application for Market-Based Rates to be effective 10/1/2016.

Filed Date: 7/19/16.

Accession Number: 20160719-5109.

Comments Due: 5 p.m. ET 8/9/16.

Docket Numbers: ER16-2241-000.

Applicants: Ninnescah Wind Energy, LLC.

Description: Baseline eTariff Filing: Ninnescah Wind Energy, LLC Application for Market-Based Rates to be effective 10/1/2016.

Filed Date: 7/19/16.

Accession Number: 20160719-5111.

Comments Due: 5 p.m. ET 8/9/16.

Docket Numbers: ER16-2242-000.

Applicants: Midcontinent Independent System Operator, Inc.

Description: § 205(d) Rate Filing: 2016-07-20_SA 2928 ITCTransmission-Tuscola Wind III GIA (J301) to be effective 7/21/2016.

Filed Date: 7/20/16.

Accession Number: 20160720-5039.

Comments Due: 5 p.m. ET 8/10/16.

Docket Numbers: ER16-2243-000.

Applicants: Midcontinent Independent System Operator, Inc.

Description: § 205(d) Rate Filing: 2016-07-20_SA 2929 ITCTransmission-Huron Wind GIA (J308) to be effective 7/21/2016.

Filed Date: 7/20/16.

Accession Number: 20160720-5045.

Comments Due: 5 p.m. ET 8/10/16.

Docket Numbers: ER16-2244-000.

Applicants: Duke Energy Carolinas, LLC.

Description: § 205(d) Rate Filing: Amendment to PMPA NITSA SA No. 355 to be effective 7/1/2016.

Filed Date: 7/20/16.

Accession Number: 20160720-5058.

Comments Due: 5 p.m. ET 8/10/16.

Docket Numbers: ER16-2245-000.

Applicants: Wabash Valley Power Association, Inc.

Description: § 205(d) Rate Filing: Amendments to Rate Schedules—Boone REMC to be effective 9/20/2016.

Filed Date: 7/20/16.

Accession Number: 20160720-5082.

Comments Due: 5 p.m. ET 8/10/16.

Docket Numbers: ER16-2246-000.

Applicants: Antelope DSR 1, LLC.

Description: Baseline eTariff Filing: Antelope DSR 1, LLC SFA to be effective 8/1/2016.

Filed Date: 7/20/16.

Accession Number: 20160720-5111.

Comments Due: 5 p.m. ET 8/10/16.

Docket Numbers: ER16-2247-000.

Applicants: Antelope DSR 2, LLC.

Description: Baseline eTariff Filing: Antelope DSR 2, LLC SFA to be effective 8/1/2016.

Filed Date: 7/20/16.

Accession Number: 20160720-5114.

Comments Due: 5 p.m. ET 8/10/16.

Docket Numbers: ER16-2248-000.

Applicants: Antelope DSR 3, LLC.

Description: Baseline eTariff Filing: Antelope DSR 3, LLC SFA to be effective 8/1/2016.

Filed Date: 7/20/16.

Accession Number: 20160720-5115.

Comments Due: 5 p.m. ET 8/10/16.

Docket Numbers: ER16-2249-000.

Applicants: Elevation Solar C LLC.

Description: Baseline eTariff Filing: Elevation Solar C LLC SFA to be effective 8/1/2016.

Filed Date: 7/20/16.

Accession Number: 20160720-5116.

Comments Due: 5 p.m. ET 8/10/16.

Docket Numbers: ER16-2250-000.

Applicants: Solverde 1, LLC.

Description: Baseline eTariff Filing: Solverde 1, LLC SFA to be effective 8/1/2016.

Filed Date: 7/20/16.

Accession Number: 20160720-5117.

Comments Due: 5 p.m. ET 8/10/16.

Docket Numbers: ER16-2251-000.

Applicants: Western Antelope Blue Sky Ranch B LLC.

Description: Baseline eTariff Filing: Western Antelope Blue Sky Ranch B LLC SFA to be effective 8/1/2016.

Filed Date: 7/20/16.

Accession Number: 20160720-5118.

Comments Due: 5 p.m. ET 8/10/16.

Take notice that the Commission received the following electric securities filings:

Docket Numbers: ES16-44-000.

Applicants: ITC Midwest LLC.

Description: Application Under Section 204 of the Federal Power Act of ITC Midwest LLC.

Filed Date: 7/20/16.

Accession Number: 20160720-5107.

Comments Due: 5 p.m. ET 8/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2016.
Nathaniel J. Davis, Sr.,
Deputy Secretary.

[FR Doc. 2016-18287 Filed 8-1-16; 8:45 am]

BILLING CODE 6717-01-P